DEPARTMENT OF HOMELAND SECURITY

Federal Emergency Management Agency

44 CFR Part 67

[Docket ID FEMA-2008-0020; Internal Agency Docket No. FEMA-B-1057]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before September 14, 2009.

ADDRESSES: The corresponding preliminary Flood Insurance Rate Map (FIRM) for the proposed BFEs for each community are available for inspection at the community's map repository. The respective addresses are listed in the table below.

You may submit comments, identified by Docket No. FEMA-B-1057, to William R. Blanton Jr., Chief, Engineering Management Branch, Mitigation Directorate, Federal Emergency Management Agency, 500 C Street, SW., Washington, DC 20472, (202) 646-3151, or (e-mail) bill.blanton@dhs.gov.

FOR FURTHER INFORMATION CONTACT: William R. Blanton Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Madison County, Alabama, and Incorporated Areas
Aldridge Creek | Approximately 0.4 miles upstream of Green Cove Road | +577 | +576 | City of Huntsville, Unincorporated Areas of Madison County.
| Approximately 75 feet downstream of Drake Avenue | +679 | +682
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Huntsville
Maps are available for inspection at 308 Fountain Circle Southwest, Huntsville, AL 35804.
Unincorporated Areas of Madison County
Maps are available for inspection at 100 North Side Circle, Huntsville, AL 35801.
Franklin County, Kansas, and Incorporated Areas
Nugent Creek | Just upstream of Marshall Road | None | +904 | City of Ottawa, Unincorporated Areas of Franklin County.
| Just downstream of Interstate Highway 35 | None | +940
Pottawatomie Creek | At confluence of Unnamed Tributary between Walnut Street and Cherry Street in eastern portion of the city | None | +874 | City of Lane.
| Just upstream of the intersection of Lane Road and South Kansas Avenue | None | +875
Rock Creek | Just upstream of East 15th Street | None | +902 | City of Ottawa, Unincorporated Areas of Franklin County.
| Just downstream of Interstate Highway 35 | None | +913
Walnut Creek | Just upstream of Interstate Highway 35 | None | +1012 | City of Wellsville, Unincorporated Areas of Franklin County.
| Just upstream of Utah Road | None | +1040
Walnut Creek Tributary | At confluence with Walnut Creek | None | +1030 | Unincorporated Areas of Franklin County.
| Approximately 800 feet downstream from Hedge Road | None | +1038
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Lane
Maps are available for inspection at 520 3rd Street, P.O. Box 116, Lane, KS 66042.
City of Ottawa
Maps are available for inspection at 101 S Hickory, 2nd Floor, Ottawa, KS 66067.
City of Wellsville
Maps are available for inspection at 411 Main Street, Wellsville, KS 66092.
Unincorporated Areas of Franklin County
Maps are available for inspection at 315 South Main Street, Suite 202, Ottawa, KS 66067.
Lincoln County, Missouri, and Incorporated Areas
Cuivre River | At confluence with Mississippi River at East Sycamore Road, east of City of Old Monroe | +445 | +444 | Unincorporated Areas of Lincoln County, City of Old Monroe.
McLean Creek | At confluence with Mississippi River, just east of City of Winfield | +446 | +445 | Unincorporated Areas of Lincoln County, City of Winfield.
Mississippi River | At southern county boundary, east of City of Old Monroe | +445 | +444 | Unincorporated Areas of Lincoln County, City of Elsberry, City of Foley, City of Old Monroe, City of Winfield.
| At northern county boundary at Dameron Road | +451 | +450
Sandy Creek | At confluence with Mississippi River, east of City of Foley | +447 | +446 | Unincorporated Areas of Lincoln County, City of Foley.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Elsberry
Maps are available for inspection at 201 Broadway Street, Elsberry, MO 63343.
City of Foley
Maps are available for inspection at 617 Elm Street, Foley, MO 63347.
City of Old Monroe
Maps are available for inspection at 151 Main Street, P.O. Box 212, Old Monroe, MO 63369.
City of Winfield
Maps are available for inspection at 51 Old Troy Highway, P.O. Box 59, Winfield, MO 63389.
Unincorporated Areas of Lincoln County
Maps are available for inspection at 201 Main Street, Troy, MO 63379.

(Catalog of Federal Domestic Assistance No. 97.022, “Flood Insurance.”)

Dated: May 27, 2009.
Deborah S. Ingram,
Acting Deputy Assistant Administrator for Mitigation, Mitigation Directorate, Department of Homeland Security, Federal Emergency Management Agency.

[FR Doc. E9-14039 Filed 6-12-09; 8:45 am]

BILLING CODE 9110-12-P